DEPARTMENT OF VETERANS AFFAIRS

[OMB Control No. 2900-0178]

Agency Information Collection Activity Under OMB Review: Monthly Certification of On-The-Job and Apprenticeship Training

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0178.”

FOR FURTHER INFORMATION CONTACT: VA PRA information: Maribel Aponte, 202-461-8900, vacopaperworkreduact@va.gov.

SUPPLEMENTARY INFORMATION:

Title: Monthly Certification of On-The-Job and Apprenticeship Training, VA Form 22-6553d-1; 22-6553d.

OMB Control Number: 2900-0178, https://www.reginfo.gov/public/do/PRASearch.

Type of Review: Revision of a currently approved collection.

Abstract: With the use of VA Forms 22-6553d-1; 22-6553d, benefits are authorized monthly based on the number of hours worked in a training capacity by the trainee as verified by the training establishment. Unscheduled terminations result in the termination of benefits. If hours are reduced to less than a full-time work schedule, a reduction of benefits will occur. Public Law 115-89 “Veterans Apprenticeship and Labor Opportunity Reform Act” (VALOR Act) was signed into law on November 21, 2017. Section 3 of this law amended 38 U.S.C. 3680(c) to eliminate the trainee's certification requirement. As a result, this form is only completed, signed, and certified by the training establishment to report the trainee's number of hours worked and/or to report the trainee's date of termination. The form no longer requires the signature of the trainee. The form is then sent to the Regional Processing Office (RPO) for processing.

An agency may not conduct or sponsor, and a person is not required to respond to a collection of information unless it displays a currently valid OMB control number. The Federal Register Notice with a 60-day comment period soliciting comments on this collection of information was published at 89 FR 80307-80308, October 2, 2024.

Affected Public: Training Establishments.

Estimated Annual Burden: 39,340 hours.

Estimated Average Burden per Respondent: 10 minutes.

Frequency of Response: 12 Annually per Respondent.

Estimated Number of Respondents: 19,670.

Authority: 44 U.S.C. 3501 et seq.

Maribel Aponte,
VA PRA Clearance Officer, Office of Enterprise and Integration, Data Governance Analytics, Department of Veterans Affairs.

[FR Doc. 2024-28829 Filed 12-6-24; 8:45 am]

BILLING CODE 8320-01-P